DEPARTMENT OF ENERGY

Federal Energy Regulatory Commission

[Project No. 1962-038]

Pacific Gas & Electric Company; Notice Rejecting Request for Rehearing

December 12, 2001.

By order issued October 24, 2001, the Commission issued an order approving the settlement agreement and the issuing a new license for Rock Creek-Cresta Hydroelectric Project 1962, located on the North Fork Feather River Watershed in Plumas and Butte Counties, California. 97 FERC ¶ 61,084. On November 27, 2001, the Baiocchi Family filed a request for rehearing of that order.

Under section 313(a) of the Federal Power Act, 16 USC 825l(a), an aggrieved party must file a request for rehearing within thirty days after the issuance of the Commission's order, in this case no later than November 23, 2001. Because the 30-day rehearing deadline is statutorily based, it cannot be extended, and the Baiocchi family's request for rehearing must be rejected as untimely.

This notice constitutes final agency action. Requests for rehearing by the Commission of this rejection notice must be filed within 30 days of the date of issuance of this notice, pursuant to 18 CFR 385.713.

Linwood A. Watson, Jr.,
Acting Secretary.

[FR Doc. 01-31121 Filed 12-17-01; 8:45 am]

BILLING CODE 6717-01-P